DEPARTMENT OF COMMERCE

Submission for OMB Review; Comment Request

DOC has submitted to the Office of Management and Budget (OMB) for clearance the following proposal for collection of information under the provisions of the Paperwork Reduction Act (44 U.S.C. Chapter 35).

AGENCY: U.S. Census Bureau.

Title: Annual Retail Trade Survey.

Form Number(s): SA-44, SA-44A, SA-44C, SA-44E, SA-44N, SA-44S, SA-45, SA-45C, & SA-721.

Agency Approval Number: 0607-0013.

Type of Request: Revision of a Currently Approved Collection.

Burden: 9,299 hours.

Number of Respondents: 22,977.

Avg Hours Per Response: 24 minutes.

Needs and Uses: The Annual Retail Trade Survey (ARTS) provides the only continuing official measure of annual total retail sales, e-commerce sales, end-of-year inventories, sales/inventory ratios, purchases, inventory valuation methods, gross margin, and end-of-year accounts receivables for retailers and annual sales and e-commerce sales for accommodation and food services firms in the United States.

The data collected in the annual retail survey provide a current statistical picture of the retail and food services and accommodations portions of consumer activity. Also, the estimates compiled from this survey provide valuable information for economic policy decisions and actions by government and are widely used by private businesses, trade organizations, professional associations, and others for market research and analysis. The sales and receipts are used by the Bureau of Economic Analysis (BEA) in determining the consumption portion of the Gross Domestic Product (GDP).

Our last request included a total of seven report forms: the SA-44, SA-44A, SA-45, SA-44C, SA-45C, & SA-721 with one supplemental form the SA-44N. The SA-44N included only additional questions asked exclusively of non-store retailers, office supply companies, and computer stores. This request is for the clearance of nine similar report forms, the SA-44, SA-44A, SA-44C, SA-44E, SA-44N, SA-44S, SA-45, SA-45C, & SA-721. The two new forms, the SA-44E and SA-44S, as well as the SA-44N, incorporate those additional questions included originally on the supplemental form of our last request. These nine forms will enable us to collect information on a North American Industry Classification System (NAICS) basis and to request similar data items. A variety of forms are needed to address the size of the firm, its specific kind-of-business, or the data items requested.

Affected Public: Business or other for-profit.

Frequency: Annually.

Respondent's Obligation: Mandatory.

Legal Authority: Title 13 U.S.C., Sections 182, 224, and 225.

OMB Desk Officer: Susan Schechter, (202) 395-5103.

Copies of the above information collection proposal can be obtained by calling or writing Madeleine Clayton, Departmental Paperwork Clearance Officer, (202)482-3129, Department of Commerce, room 6608, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: August 26, 2002.
Madeleine Clayton,
Departmental Paperwork Clearance Officer, Office of the Chief Information Officer.

[FR Doc. 02-22153 Filed 8-29-02; 8:45 am]

BILLING CODE 3510-07-P